DEPARTMENT OF COMMERCE

International Trade Administration

[A-570-900]

Diamond Sawblades and Parts Thereof From the People's Republic of China: Notice of Court Decision Not in Harmony With the Final Results of Review and Amended Final Results of the Antidumping Duty Administrative Review; 2014-2015

AGENCY: Enforcement and Compliance, International Trade Administration, Department of Commerce.

SUMMARY: On December 16, 2019, the United States Court of International Trade (CIT) sustained the final remand redetermination pertaining to the administrative review of the antidumping duty order on diamond sawblades and parts thereof from the People's Republic of China covering the period November 1, 2014 through October 31, 2015. The Department of Commerce (Commerce) is notifying the public that the CIT's final judgment in this case is not in harmony with the final results of the administrative review and that Commerce is amending the final results with respect to certain respondents eligible for separate rates.

Applicable date: December 26, 2019.

FOR FURTHER INFORMATION CONTACT: Yang Jin Chun or Minoo Hatten, AD/CVD Operations, Office I, Enforcement and Compliance, International Trade Administration, U.S. Department of Commerce, 1401 Constitution Avenue NW, Washington, DC 20230; telephone (202) 482-5760 or (202) 482-1690, respectively.

SUPPLEMENTARY INFORMATION:

Background

On June 12, 2017, Commerce published the Final Results, in which we accepted an alternative sales identification methodology for Bosun Tools Co., Ltd. (Bosun), calculated a margin for Bosun, and assigned the margin for Bosun to the non-selected separate rate respondents.¹ On October 23, 2018, the CIT remanded the Final Results to Commerce to: (1) Further clarify or reconsider Commerce's conclusion that Bosun acted to the best of its ability in responding to Commerce's requests for information; and (2) further explain Commerce's selection of surrogate values for copper powder and copper iron clab.²

¹ See Diamond Sawblades and Parts Thereof from the People's Republic of China: Final Results of Antidumping Duty Administrative Review; 2014-2015, 82 FR 26912 (June 12, 2017) (Final Results).

² See Diamond Sawblades Manufacturers' Coalition v. United States, Court No. 17-00167, Slip Op. 18-146 (CIT Oct. 23, 2018).

In the final remand redetermination, we found that Bosun had not acted to the best of its ability in responding to our request for information and determined Bosun's margin entirely on the basis of the facts available with an adverse inference (AFA). Because we applied AFA to Bosun, the issue concerning the surrogate value for copper power and copper iron clab was moot.³ On December 16, 2019, the CIT sustained our final remand redetermination in its entirety.⁴

³ See Final Remand Redetermination dated April 17, 2019, pursuant to Diamond Sawblades Manufacturers' Coalition v. United States, Court No. 17-00167, Slip Op. 18-146 (CIT Oct. 23, 2018), available at https://enforcement.trade.gov/remands/18-146.pdf.

⁴ See Diamond Sawblades Manufacturers' Coalition v. United States, Court No. 17-00167, Slip Op. 19-157 (CIT Dec. 16, 2019).

Timken Notice

In its decision in Timken Co. v. United States, 893 F.2d 337, 341 (Fed. Cir. 1990) (Timken), as clarified by Diamond Sawblades Mfrs. Coalition v. United States, 626 F.3d 1374 (Fed. Cir. 2010), the United States Court of Appeals for the Federal Circuit held that, pursuant to section 516A(e) of the Tariff Act of 1930, as amended (the Act), Commerce must publish a notice of a court decision that is not “in harmony” with a Commerce determination and must suspend liquidation of entries pending a “conclusive” court decision. The CIT's December 16, 2019, final judgment sustaining the final remand redetermination constitutes the CIT's final decision which is not “in harmony” with the Final Results. This notice is published in fulfillment of the publication requirements of Timken. Accordingly, Commerce will continue the suspension of liquidation of the subject merchandise pending expiration of the period to appeal or, if appealed, pending a final and conclusive court decision.

Amended Final Results of Review

Because there is now a final court decision, Commerce is amending the Final Results with respect to Bosun and the non-selected separate rate respondents as follows:

Exporter | Weighted- average dumping margin (percent)
Bosun Tools Co., Ltd | 82.05
Chengdu Huifeng Diamond Tools Co., Ltd ⁵ | 82.05
Danyang Hantronic Import & Export Co., Ltd | 82.05
Danyang Huachang Diamond Tools Manufacturing Co., Ltd | 82.05
Danyang Like Tools Manufacturing Co., Ltd | 82.05
Danyang NYCL Tools Manufacturing Co., Ltd | 82.05
Danyang Weiwang Tools Manufacturing Co., Ltd | 82.05
Guilin Tebon Superhard Material Co., Ltd | 82.05
Hangzhou Deer King Industrial and Trading Co., Ltd | 82.05
Hangzhou Kingburg Import & Export Co., Ltd | 82.05
Huzhou Gu's Import & Export Co., Ltd | 82.05
Jiangsu Inter-China Group Corporation | 82.05
Jiangsu Youhe Tool Manufacturer Co., Ltd | 82.05
Qingyuan Shangtai Diamond Tools Co., Ltd | 82.05
Quanzhou Zhongzhi Diamond Tool Co., Ltd | 82.05
Rizhao Hein Saw Co., Ltd | 82.05
Saint-Gobain Abrasives (Shanghai) Co., Ltd | 82.05
Shanghai Jingquan Industrial Trade Co., Ltd | 82.05
Sino Tools Co., Ltd | 82.05
Weihai Xiangguang Mechanical Industrial Co., Ltd | 82.05
Wuhan Wanbang Laser Diamond Tools Co., Ltd ⁶ | 82.05
Xiamen ZL Diamond Technology Co., Ltd | 82.05
Zhejiang Wanli Tools Group Co., Ltd | 82.05

In the event the CIT's ruling is not appealed or, if appealed, upheld by a final and conclusive court decision, Commerce will instruct the U.S. Customs and Border Protection (CBP) to assess antidumping duties on unliquidated entries of subject merchandise based on the revised rates listed above, in accordance with 19 CFR 351.212(c)(2).

⁵ See Diamond Sawblades and Parts Thereof from the People's Republic of China: Final Results of Antidumping Duty Changed Circumstances Review, 82 FR 60177 (December 19, 2017). In this changed circumstances review, Commerce determined that Chengdu Huifeng New Material Technology Co., Ltd. is the successor-in-interest to Chengdu Huifeng Diamond Tools Co., Ltd.

⁶ Wuhan Wanbang Laser Diamond Tools Co., Ltd., is the successor-in-interest to Wuhan Wanbang Laser Diamond Tools Co. See Diamond Sawblades and Parts Thereof from the People's Republic of China: Final Results of Antidumping Duty Changed Circumstances Review, 81 FR 20618 (April 8, 2016).

Cash Deposit Requirements

As the cash deposit rate for Danyang Hantronic Import & Export Co., Ltd., has not been subject to subsequent administrative reviews, Commerce will issue revised cash deposit instructions to CBP adjusting the rate from 6.19 percent to 82.05 percent, effective December 26, 2019. For all other respondents listed above, because the cash deposit rates have been updated in subsequent administrative reviews,⁷ we will not update their cash deposit rates as a result of these amended final results.

⁷ For Bosun, Danyang NYCL Tools Manufacturing Co., Ltd., Weihai Xiangguang Mechanical Industrial Co., Ltd., and Wuhan Wanbang Laser Diamond Tools Co., Ltd., see Diamond Sawblades and Parts Thereof from the People's Republic of China: Final Results of Antidumping Duty Administrative Review; 2015-2016, 83 FR 17527, 17528 (April 20, 2018). For all other respondents listed above, see Diamond Sawblades and Parts Thereof from the People's Republic of China: Preliminary Results of Antidumping Duty Administrative Review; 2016-2017, 83 FR 39673, 39674, n.10 (August 10, 2018), unchanged in Diamond Sawblades and Parts Thereof from the People's Republic of China: Final Results of Antidumping Duty Administrative Review; 2016-2017, 83 FR 64331 (December 14, 2018).

Notification to Interested Parties

This notice is issued and published in accordance with sections 516A(e)(1), 751(a)(1), and 777(i)(1) of the Act.

Dated: December 27, 2019.
Jeffrey I. Kessler,
Assistant Secretary for Enforcement and Compliance.

[FR Doc. 2019-28327 Filed 12-31-19; 8:45 am]

BILLING CODE 3510-DS-P